DEPARTMENT OF HOUSING AND URBAN DEVELOPMENT

[Docket No. FR-4579-FA-16]

Announcement of Funding Award—FY 2001; Lead-Based Paint Hazard Control; United Parents Against Lead of Michigan

AGENCY: Office of the Secretary—Office of Healthy Homes and Lead Hazard Control, HUD.

ACTION: Announcement of funding award.

SUMMARY: In accordance with section 102(a)(4)(C) of the Department of Housing and Urban Development Reform Act of 1989, this announcement notifies the public of funding decision made by the Department of the United Parents Against Lead of Michigan. This announcement contains the name and address of the awardee and the amount of the award.

FOR FURTHER INFORMATION CONTACT: Staci Gilliam, Department of Housing and Urban Development, 451 Seventh Street, SW., Washington, DC 20410, telephone (202) 755-1785, ext. 110. Hearing- or speech-impaired individuals may access this number by calling the Federal Information Relay Service TTY at 1-800-877-8339.

SUPPLEMENTARY INFORMATION: The Lead-Based Paint Hazard Control grant for the United Parents Against Lead of Michigan was issued pursuant to Pub. L. 102-550, Title X, Residential Lead-Based Paint Hazard Reduction Act of 1992.

This notice announces the award of $240,763.00 to the United Parents Against Lead of Michigan, which will be used to provide financial support and technical assistance to support education and outreach efforts by parent groups and other community-based organizations to protect children from being lead poisoned.

The Catalog of Federal Domestic Assistance number for this program is 14,900.

In accordance with section 102(a)(4)(C) of the Department of Housing and Urban Development Reform Act of 1989 (103 Stat. 1987, 42 U.S.C. 3545), the Department is publishing the name, address, and amount of the award as follows:

United Parents Against Lead of Michigan, 2061 116th Avenue, Allegan, MI 49010.

Total Amount of Grant: $240,763.

Dated: September 16, 2002.
David E. Jacobs,
Director, Office of Healthy Homes and Lead Hazard Control.

[FR Doc. 02-26767 Filed 10-21-02; 8:45 am]

BILLING CODE 4210-70-M